DEPARTMENT OF ENERGY

Federal Energy Regulatory Commission

[Project No. 12068-001]

CPS Products, Incorporated; Notice of Surrender of Preliminary Permit

October 24, 2002.

Take notice that CPS Products, Incorporated, permittee for the proposed Upper Bear Creek Project, has requested that its preliminary permit be terminated. The permit was issued on December 13, 2001, and would have expired on November 30, 2004. The project would have been located on North Fork Bear Creek in Skagit County, Washington.

The permittee filed the request on September 17, 2002, and the preliminary permit for Project No. 12068 shall remain in effect through the thirtieth day after issuance of this notice unless that day is a Saturday, Sunday, or holiday as described in 18 CFR 385.2007, in which case the permit shall remain in effect through the first business day following that day. New applications involving this project site, to the extent provided for under 18 CFR part 4, may be filed on the next business day.

Linwood A. Watson, Jr.,
Deputy Secretary.

[FR Doc. 02-27937 Filed 11-1-02; 8:45 am]

BILLING CODE 6717-01-P